DEPARTMENT OF JUSTICE

Antitrust Division

Notice Pursuant to the National Cooperative Research and Production Act of 1993—Truck Essential Power Systems Efficiency Improvements for Medium Duty Trucks

Notice is hereby given that, on May 12, 2005, pursuant to Section 6(a) of the National Cooperative Research and Production Act of 1993, 15 U.S.C. 4301 et seq. (“the Act”), Truck Essential Power Systems Efficiency Improvements for Medium Duty Trucks (“TEPS2”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Caterpillar Inc., Mossville, IL; Emerson Electric Co., St. Louis, MO; Engineered Machine Products, Inc., Escanaba, MI; and Dana Corporation, Ottawa Lake, MI. The general area of TEPS2's planned activity is to focus on the optimization of sophisticated power management strategies of various electrically driven engine accessories to replace the typical arrangement of belt/gear driven components.

Dorothy B. Fountain,
Deputy Director of Operations, Antitrust Division.

[FR Doc. 05-12048 Filed 6-17-05; 8:45 am]

BILLING CODE 4410-11—M